DEPARTMENT OF ENERGY

Federal Energy Regulatory Commission

[Project Nos. 199-218, et al.]

South Carolina Public Service Authority; Notice of Applications for Amendment of License and Soliciting Comments, Motions To Intervene, and Protests

March 31, 2010.

Take notice that the following hydroelectric applications have been filed with the Commission and are available for public inspection:

a. Application Type: Amendment of License.

b. Project Nos.: 199-218, 199-219, 199-220, 199-221, and 199-222.

c. Date Filed: March 26, 2010.

d. Applicant: South Carolina Public Service Authority.

e. Name of Project: Santee Cooper Hydroelectric Project.

f. Location: The project lands proposed for reclassification are in Berkeley and Clarendon counties, South Carolina.

g. Filed Pursuant to: Federal Power Act, 16 U.S.C. 791a-825r.

h. Applicant Contact: Mr. David L. Evans, Manager, Property Management, P.O. Box 2946101, Moncks Corner, SC 29461, telephone (843) 761-4068.

i. FERC Contact: Any questions on this notice should be addressed to Shana High at (202) 502-8674.

j. Deadline for Filing Comments, Motions to Intervene, and Protest: May 3, 2010.

Comments, Motions to Intervene, and Protests may be filed electronically via the Internet. See, 18 CFR 385.2001(a)(1)(iii) and the instructions on the Commission's Web site at http://www.ferc.gov under the “e-Filing” link. If unable to be filed electronically, documents may be paper-filed. To paper-file, an original and eight copies should be mailed to: Secretary, Federal Energy Regulatory Commission, 888 First Street, NE., Washington, DC 20426. For more information on how to submit these types of filings, please go to the Commission's Web site located at http://www.ferc.gov.filing-comments.asp. Please include the project number (P-199-218, 219, 220, 221, or 222) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: South Carolina Public Service Authority requests the following five changes in project land classification: Thornley Subdivision in Berkeley County (-218), approximately 42 acres from “Forest Management” to “Residential” to allow expansion of the subdivision; Potato Creek Area in Clarendon County (-219), two acres from “Residential” to “USFWS” for consistency among the lands to be leased by the USFWS; Jack's Creek Area in Clarendon County (-220), approximately 4.57 acres from “Residential Marginal” to “Public Vacation Recreation” to allow expansion of a commercial lease area; Dingle Pond Area in Berkeley County (-221), 3.4 acres from “Forest Management” to “USFWS” to correct a classification error; and Cross Area in Berkeley County (-222), approximately 15 acres from “Forest Management” to “Public Vacation Recreation” to allow the expansion of Black's Fish Camp, a commercial lease area.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

Nathaniel J. Davis, Sr.,
Deputy Secretary.

[FR Doc. 2010-7704 Filed 4-5-10; 8:45 am]

BILLING CODE 6717-01-P